DEPARTMENT OF THE TREASURY

Internal Revenue Service

Open Meeting of the Taxpayer Advocacy Panel Joint Committee: Correction

AGENCY: Internal Revenue Service (IRS), Treasury.

ACTION: Notice of meeting: Correction.

SUMMARY: In the Federal Register notice that was originally published on April 24, 2019, (Volume 84, Number 79, Page 17240) the meeting time has changed from 1:00 p.m. to 1:30 p.m. Eastern Standard Time.

DATES: The meeting will be held Thursday, April 25, 2019.

FOR FURTHER INFORMATION CONTACT: Gilbert Martinez at 1-888-912-1227 or (737) 800-4060.

SUPPLEMENTARY INFORMATION: Notice is hereby given pursuant to Section 10(a)(2) of the Federal Advisory Committee Act, 5 U.S.C. App. (1988) that an open meeting of the Taxpayer Advocacy Panel Joint Committee will be held Thursday, April 25, 2019, at 1:30 p.m. Eastern Time via teleconference. The public is invited to make oral comments or submit written statements for consideration. For more information please contact Gilbert Martinez at 1-888-912-1227 or (737-800-4060), or write TAP Office 3651 S. IH-35, STOP 1005 AUSC, Austin, TX 78741, or post comments to the website: http://www.improveirs.org.

The agenda will include various committee issues for submission to the IRS and other TAP related topics. Public input is welcomed.

Dated: May 2, 2019.
Kevin Brown,
Acting Director, Taxpayer Advocacy Panel.

[FR Doc. 2019-09384 Filed 5-7-19; 8:45 am]

BILLING CODE 4830-01-P